FEDERAL MARITIME COMMISSION

Notice of Agreements Filed

The Commission hereby gives notice of the filing of the following agreements under the Shipping Act of 1984. Interested parties may submit comments on any agreements to the Secretary, Federal Maritime Commission, Washington, DC 20573, within twelve days of the date this notice appears in the Federal Register. A copy of each agreement is available through the Commission's website (www.fmc.gov) or by contacting the Office of Agreements at (202)-523-5793 or tradeanalysis@fmc.gov.

Agreement No.: 011117-058.

Title: United States/Australasia Discussion Agreement.

Parties: ANL Singapore Pte Ltd.; CMA-CGM.; Hamburg-Süd; Mediterranean Shipping Company S.A.; and Pacific International Lines (PTE) LTD.

Filing Party: Wayne R. Rohde, Esq.; Cozen O'Connor; 1200 19th Street NW, Washington, DC 20036.

Synopsis: The amendment would deletes Compagnie Maritime Marfret S.A. as a party to the Agreement.

Agreement No.: 012463-001.

Title: Maersk/MSC/HMM Strategic Cooperation Agreement.

Parties: Maersk Line A/S; MSC Mediterranean Shipping Company SA; and Hyundai Merchant Marine Co., Ltd.

Filing Party: Wayne Rohde; Cozen O'Connor; 1200 19th Street NW, Washington, DC 20036.

Synopsis: The Amendment adds new termination rights, and clarifies certain existing termination rights. It also sets forth additional compliance requirements.

Agreement No.: 201143-016.

Title: West Coast MTO Agreement.

Parties: APM Terminals Pacific, Ltd.; Eagle Marine Services, Ltd.; Everport Terminal Services, Inc; International Transportation Service, Inc.; LBCT LLC d/b/a Long Beach Container Terminal LLC; Trapac, Inc.; Total Terminals LLC; West Basin Container Terminal LLC; Pacific Maritime Services, L.L.C.; SSAT (Pier A), LLC; and SSA Terminal (Long Beach), LLC.

Filing Party: Wayne R. Rohde, Esq.; Cozen O'Connor; 1200 19th Street NW, Washington, DC 20036.

Synopsis: The amendment changes the names of certain parties to the agreement.

By Order of the Federal Maritime Commission.
Dated: December 14, 2017.
Rachel E. Dickon,
Assistant Secretary.

[FR Doc. 2017-27261 Filed 12-18-17; 8:45 am]

BILLING CODE 6731-AA-P